DEPARTMENT OF COMMERCE

International Trade Administration

[A-580-825]

Oil Country Tubular Goods, Other Than Drill Pipe, from Korea: Preliminary Results of Antidumping Duty Administrative Review

AGENCY: Import Administration, International Trade Administration, U.S. Department of Commerce.

SUMMARY: In response to a request filed by IPSCO Tubulars, Inc., Lone Star Steel Company, and Maverick Tube Corporations (collectively, the “petitioners”), and SeAH Steel Corporation (“SeAH”), the U.S. Department of Commerce (“the Department”) is conducting an administrative review of the antidumping duty order on oil country tubular goods, other than drill pipe (“OCTG”) from Korea. This review covers the following producers/exporters: SeAH and Husteel Co., Ltd. (“Husteel”) and SeAH. The period of review (“POR”) is August 1, 2004 through July 31, 2005. The preliminary results are discussed below in the section entitled “Preliminary Results of Review.” We preliminarily find that both Husteel and SeAH made sales below normal value (“NV”). If these preliminary results are adopted in our final results, we will instruct U.S. Customs and Border Protection (“CBP”) to assess antidumping duties based on the difference between the constructed export price (“CEP”) and the NV.

EFFECTIVE DATE: August 31, 2006.

FOR FURTHER INFORMATION CONTACT: Scott Lindsay, Nicholas Czajkowski, or Dara Iserson, AD/CVD Operations, Office 6, Import Administration, International Trade Administration, U.S. Department of Commerce, 14th Street and Constitution Avenue, N.W., Washington, DC 20230, telephone: (202) 482-0780, (202) 482-1395, or (202) 482-4052, respectively.

SUPPLEMENTARY INFORMATION:

Background

On August 11, 1995, the Department published in the Federal Register an antidumping duty order on OCTG from Korea (60 FR 41058). On August 1, 2005, the Department published the notice of opportunity to request an administrative review of the antidumping order on OCTG from Korea. See Antidumping or Countervailing Duty Order, Finding, or Suspended Investigation: Opportunity To Request Administrative Review, 69 FR 44085 (August 1, 2005). On August 31, 2005, the Department received a properly filed, timely request for an administrative review of Husteel and SeAH from petitioners and a request from SeAH for a review of its sales. On September 28, 2005, the Department published a notice of initiation for this antidumping duty administrative review. See Notice of Initiation of Antidumping and Countervailing Duty Administrative Reviews and Request for Revocation in Part, 70 FR 56631 (September 28, 2005).

On October 26, 2005, the Department issued questionnaires¹ to Husteel and SeAH. Both Husteel and SeAH submitted Section A responses on January 9, 2005. Husteel submitted its Section B-D responses on January 27, 2006. SeAH submitted its Section B-E responses on February 2, 2006. The Department issued supplemental questionnaires to Husteel and SeAH on April 7, 2006 and received responses on May 1, 2006. The Department issued additional questionnaires to Husteel and SeAH on July 18, 2006. Husteel and SeAH submitted their responses on August 4, 2006 and August 16, 2006, respectively.

¹ Section A of the questionnaire requests general information concerning a company's corporate structure and business practices, the merchandise under investigation that it sells, and the manner in which it sells that merchandise in all of its markets. Section B requests a complete listing of all home market sales, or, if the home market is not viable, of sales in the most appropriate third-country market (this section is not applicable to respondents in non-market economy cases). Section C requests a complete listing of U.S. sales. Section D requests information on the cost of production of the foreign like product and the constructed value of the merchandise under investigation. Section E requests information on further manufacturing.

On April 25, 2006, the Department published a notice extending the deadline for the preliminary results of this administrative review from May 3, 2006 until August 24, 2006. See Oil Country Tubular Goods from Korea: Notice of Extension of Time Limit for Preliminary Results of Administrative Review, 71 FR 23897 (April 25, 2006).

Scope Of The Order

The products covered by this order are OCTG, hollow steel products of circular cross-section, including only oil well casing and tubing, of iron (other than cast iron) or steel (both carbon and alloy), whether seamless or welded, whether or not conforming to American Petroleum Institute (“API”) or non-API specifications, whether finished or unfinished (including green tubes and limited service OCTG products). This scope does not cover casing or tubing pipe containing 10.5 percent or more of chromium, or drill pipe. The products subject to this order are currently classified in the Harmonized Tariff Schedule of the United States (“HTSUS”) under sub-headings: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.30.10, 7304.29.30.20, 7304.29.30.30, 7304.29.30.40, 7304.29.30.50, 7304.29.30.60, 7304.29.30.80, 7304.29.40.10, 7304.29.40.20, 7304.29.40.30, 7304.29.40.40, 7304.29.40.50, 7304.29.40.60, 7304.29.40.80, 7304.29.50.15, 7304.29.50.30, 7304.29.50.45, 7304.29.50.60, 7304.29.50.75, 7304.29.60.15, 7304.29.60.30, 7304.29.60.45, 7304.29.60.60, 7304.29.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50. The HTSUS sub-headings are provided for convenience and customs purposes. The written description remains dispositive of the scope of the order.

Analysis

Product Comparisons

Because neither HuSteel's home market sales nor its third country sales pass the viability test, we are using constructed value (“CV”) as the basis for normal value (“NV”) for HuSteel. See “Selection of Comparison Market” section, below. In accordance with section 771(16) of the Tariff Act of 1930, as amended (“the Act”), we considered all products manufactured by SeAH that are covered by the description contained in the “Scope of the Order” section above and that were sold in the comparison market during the POR, to be the foreign like product for purposes of determining the appropriate product comparisons to U.S. sales. Where SeAH made no sales of identical merchandise in the comparison market to compare to U.S. sales, we compared U.S. sales to the most similar foreign like product on the basis of the characteristics listed in Appendix V of the Department's October 26, 2005 antidumping questionnaire.

Date of Sale

It is the Department's practice to use the invoice date as the date of sale. However, 19 CFR 351.401(i) states that the Secretary may use a date other than the date of invoice if the Secretary is satisfied that a different date better reflects the date on which the exporter or producer establishes the material terms of sale.” See 19 CFR 351.401(i); see also Allied Tube and Conduit Corp. v. United States, 132 F. Supp. 2d 1087,1090-1093 (CIT 2001).

Husteel:

U.S. Sales: For its U.S. sales, Husteel has reported that its customers contact Husteel USA, Husteel's U.S. affiliate, by phone and negotiate quantity and price. After production is complete and the merchandise has been shipped from Korea, Husteel USA issues its invoice to the unaffiliated U.S. customer. Husteel reported the date of sale to be the invoice date because material terms of sales are subject to change until Husteel USA issues its invoice to the unaffiliated U.S. customer. However, the Department finds that shipment date (the date subject merchandise is shipped from Korea to the U.S. unaffiliated customer) always precedes the date Husteel USA issues its invoice to the U.S. unaffiliated customer. Thus, because shipment occurs prior to invoice date, we are following our practice of using shipment date as date of sale. See Magnesium Metal from the Russian Federation: Notice of Final Determination of Sales at Less Than Fair Value, 70 FR 9041 (February, 24, 2005), and accompanying Magnesium Metal from the Russian Federation: Notice of Final Determination of Sales at Less Than Fair Value Issues and Decisions Memorandum at Comment 14. Since we are using CV for purposes of NV, the issue of appropriate date of sale in the comparison market is moot.

SeAH:

U.S. Sales: All of SeAH's U.S. OCTG sales were made out of inventory in the United States and, in most cases, further manufactured in the United States by Pusan Pipe America (“PPA”), SeAH's U.S. affiliate. For its U.S. sales, SeAH reported that its customers contact PPA to inquire about a sale. Once price and quantity are agreed to, its customer issues a purchase order. After further manufacturing is completed, PPA ships the OCTG directly to the unaffiliated customer. PPA issues its invoice to the customer after shipment. SeAH has reported the actual date of shipment from PPA to the unaffiliated customer as the date of sale. SeAH reports that material terms of sale are subject to change until shipment of the merchandise from PPA in the United States. However, the Department only accepts shipment date as date of sale if shipment occurs before invoice date. In this instance, all of PPA's shipments occurred prior to invoice date, we will used ship date as the date of sale. See id.

Comparison Market Sales: For sales to Canada, the comparison market in this review (see “Normal Value Comparisons” below), PPA receives an inquiry from the customer by fax or telephone. Once SeAH and PPA agree on the price to be charged to the unaffiliated customer, that customer then sends a written purchase order to PPA. SeAH ships the merchandise from Korea directly to the unaffiliated customer in Canada and issues an invoice to PPA. PPA then invoices the unaffiliated Canadian customer. As such, SeAH reported the shipment date from Korea as date of sale. See id.

Normal Value Comparisons

To determine whether Husteel's or SeAH's sales of subject merchandise to the United States were made at less than NV, we compared each company's CEP to the NV, as described in the “Constructed Export Price” and “Normal Value” sections of this notice, in accordance with section 777A(d)(2) of the Act.

Selection of Comparison Market

The Department determines the viability of a comparison market by comparing the aggregate quantity of comparison market sales to U.S. sales. A home market is not considered a viable comparison market if the aggregate quantity of sales of the foreign like product in that market amounts to less than five percent of the quantity of sales of subject merchandise to the United States during the POR. See section 773(a)(1)(C)(ii) of the Act; see also 19 CFR 351.404(b). Husteel and SeAH each reported that the aggregate quantity of sales of the foreign like product in Korea during the POR amounted to less than five percent of the quantity of each company's sales of subject merchandise to the United States during the POR.

In its January 9, 2006 questionnaire response, Husteel reported having no sales of OCTG to any other countries besides the United States and Singapore during the POR. Since the quantity of foreign like product sold by Husteel to Singapore was less than five percent of the quantity of subject merchandise sold to the United States, the Department is using CV for Husteel as the basis for NV for this review based on Husteel's cost of production (“COP”), in accordance with section 773(a)(4) of the Act.

In its January 9, 2006 questionnaire response, SeAH reported sales of OCTG to Canada and Indonesia during the POR. Since the quantity of foreign like product sold by SeAH to Canada was more than five percent and the quantity sold to Indonesia was less than five percent of the quantity of subject merchandise sold to the United States, the Department determined that only Canada qualified as a viable comparison market based on the criterion established in section 773(a)(1) of the Act. Therefore, we are basing NV on sales to Canada except where there were no usable product matches. In those instances, in accordance with section 773(a)(4) of the Act, the Department used CV as the basis for NV.

Normal Value

Price-to-Price Comparisons:

SeAH: Where appropriate, we made adjustments to NV in accordance with section 773(a)(6) of the Act. We deducted movement expenses, including foreign inland freight, third country brokerage, international freight, and marine insurance as well as credit expenses, and packing expenses from the NV. We made further adjustments for differences in costs attributable to differences in physical characteristics of merchandise in accordance with section 773(a)(6)(C)(ii) of the Act. We also made a CEP offset in accordance with section 773(a)(7)(B) of the Act (see “Level of Trade/CEP Offset” section below).² Finally, the Department added U.S. packing expenses to calculate the foreign unit price in dollars (“FUPDOL”) to use as the NV.

² The CEP offset is equal to the lesser of the total weighted average comparison market inventory carrying costs and indirect selling expenses or the sum of indirect selling expenses and inventory carrying costs for U.S. sales.

Constructed Value:

Husteel: We used CV as the basis for NV for all sales because, as discussed above, Husteel had no viable comparison market in accordance with section 773(a)(4) of the Act. We calculated CV in accordance with section 773(e) of the Act. We added the costs of materials, labor, and factory overhead to calculate the cost of manufacturing (“COM”) in accordance with section 773(e)(1) of the Act. We then added interest expenses; selling, general and administrative expenses (“SG&A”); profit; and U.S. packing expenses to COM to calculate the CV in accordance with sections 773(e)(2) and (3) of the Act. In accordance with section 773(e)(2)(B)(iii) of the Act, we calculated profit and selling expenses based on the public version of SeAH's 2004 financial statements.

SeAH: We used CV as the basis for NV for sales in which there were no usable contemporaneous sales of the foreign like product in the comparison market, in accordance with section 773(a)(4) of the Act. We calculated CV in accordance with section 773(e) of the Act. We added reported materials, labor, and factory overhead costs to derive the COM, in accordance with 773(e)(1) of the Act. We then added interest expenses, SG&A, profit, and U.S. packing expenses to derive the CV, in accordance with sections 773(e)(2) and (3) of the Act. We calculated profit based on the total value of sales and total COP reported by SeAH in its questionnaire response, in accordance with section 773(e)(2)(A) of the Act. We revised SeAH's G&A expense rate calculation to include certain donation expenses. See Memorandum to Neal M. Halper through Peter S. Scholl from Laurens van Houten: Cost of Production and Constructed Value Calculation Adjustments for the Preliminary Results - SeAH Steel Corporation, Ltd. (August 24, 2006) (on the record of this review and on file in the Central Records Unit (“CRU”), room B-099 of the main Commerce building). Finally, we deducted comparison market credit expenses expenses from CV to calculate the FUPDOL, pursuant to section 773(e)(2)(b) of the Act.

United States Price/Constructed Export Price

In accordance with section 772(b) of the Act, CEP is the price at which the subject merchandise is first sold (or agreed to be sold) in the United States before or after the date of importation by or for the account of the producer or exporter of such merchandise, or by a seller affiliated with the producer or exporter, to a purchaser not affiliated with the producer or exporter, as adjusted under sections 772(c) and (d) of the Act. In Husteel's and SeAH's questionnaire responses, each company classified all of its export sales of OCTG to the United States as CEP sales.

We preliminarily determine that all of Husteel's export sales of OCTG to the United States are properly classified as CEP sales because they were made for the account of Husteel by Husteel USA. Husteel reported one channel of distribution in the U.S. market: “produced to order” sales, shipped directly from Korea to the unaffiliated U.S. customers.

We preliminarily determine that all of SeAH's export sales of OCTG to the United States are properly classified as CEP sales because they were made for the account of SeAH by PPA. SeAH reported one channel of distribution in the U.S. market: merchandise was shipped by SeAH to PPA, then sold out of inventory by PPA to the unaffiliated customers. Many of SeAH's sales to the United States are further manufactured by an affiliated U.S. company.

Husteel's CEP: The Department calculated Husteel's starting price as its gross unit price to its unaffiliated U.S. customers, taking into account, where necessary, billing adjustments and discounts, pursuant to section 772(c)(1) of the Act. The Department made deductions from the starting price for movement expenses, including foreign inland freight, foreign and U.S. brokerage and handling, international freight, marine insurance and U.S. customs duties in accordance with section 772(c)(2) of the Act. See Memorandum from Dara Iserson, Case Analyst, to the File: Analysis of Husteel Co., Ltd. (“Husteel”) for the Preliminary Results of the Administrative Review of Oil Country Tubular Goods, Other Than Drill Pipe from Korea, dated August 24, 2006 (“Husteel's Preliminary Analysis Memo”), on the record of this review and on file in the CRU. In accordance with section 772(d)(1) of the Act, the Department also deducted U.S. credit expenses, inventory carrying costs, and indirect selling expenses to derive Husteel's net U.S. price. We also deducted CEP profit in accordance with section 772(d)(3) of the Act.

SeAH's CEP: The Department calculated SeAH's starting price as its gross unit price to its unaffiliated U.S. customers, taking into account, where necessary, billing adjustments and early payment discounts, pursuant to section 772(c)(1) of the Act. Where applicable, the Department made deductions from the starting price for movement expenses, including foreign inland freight, foreign and U.S. brokerage and handling, international freight, marine insurance and U.S. customs duties in accordance with section 772(c)(2) of the Act. See Memorandum from Nicholas Czajkowski, Case Analyst, to the File: Analysis of SeaH Steel Corporation (“SeAH”) for the Preliminary Results of the Administrative Review of Oil Country Tubular Goods, Other Than Drill Pipe from Korea, dated August 24, 2006 (“SeAH's Preliminary Analysis Memo”), on the record of this review and on file in the CRU. In accordance with section 772(d)(1) of the Act, the Department also deducted U.S. credit expenses, inventory carrying costs, and indirect selling expenses incurred in the United States. We also deducted the cost of further manufacturing, where applicable, in accordance with section 772(d)(2) of the Act. In addition, we deducted CEP profit in accordance with section 772(d)(3) of the Act.

Level of Trade/CEP Offset

In accordance with section 773(a)(1)(B) of the Act, to the extent practicable, we determined NV based on sales made in the comparison market at the same level of trade (“LOT”) as the CEP sales. The NV LOT is based on the starting price of the sales in the comparison market. In Micron Technology, Inc. v. United States, 243 F.3d 1301, 1315 (Fed. Cir. 2001) (“Micron Technology”), the Court of Appeals for the Federal Circuit held that the statute unambiguously requires Commerce to remove the selling activities set forth in section 772(d) of the Act from the CEP starting price prior to performing its LOT analysis. As such, for CEP sales, the U.S. LOT is based on the starting price of the sales, as adjusted under section 772(d) of the Act.

To determine whether NV sales are at a different LOT than the CEP sales, we examine stages in the marketing process and selling functions along the chain of distribution between the producer and the customer. If the comparison market sales are at different levels of trade, and the difference in levels of trade affects price comparability, as manifested in a pattern of consistent price differences, we make an LOT adjustment under section 773(a)(7)(A) of the Act. For CEP sales, if the NV level is more remote from the factory than the CEP level and there is no basis for determining whether the difference in the levels between NV and CEP affects price comparability, we adjust NV under section 773(A)(7)(B) of the Act (the CEP offset provision). See e.g., Notice of Final Determination of Sales at Less Than Fair Value: Certain Cut-to-Length Carbon Steel Plate From South Africa, 62 FR 61731, 61732 (November 19, 1997) (“South African Plate Final”).

Sales are made at different LOTs if they are made at different marketing stages (or their equivalent). See 19 CFR 351.412(c)(2). Substantial differences in selling activities are a necessary, but not sufficient, condition for determining that there is a difference in the stages of marketing. Id. In order to determine whether the comparison sales were at different stages in the marketing process than the U.S. sales, we reviewed the distribution system in each market (i.e., the channel of distribution),³ including selling functions,⁴ class of customer (customer category), and the level of selling expenses for each type of sale.

³ The marketing process in the United States and in the comparison markets begins with the producer and extends to the sale to the final user or consumer. The chain of distribution between the two may have many or few links, and the respondents' sales occur somewhere along this chain. In performing this evaluation, we considered the narrative responses of each respondent to properly determine where in the chain of distribution the sale occurs.

⁴ Selling functions associated with a particular chain of distribution help us to evaluate the level(s) of trade in a particular market. For purposes of this preliminary determination, we have organized the common selling functions into four major categories: sales process and marketing support, technical service, freight and delivery, and inventory maintenance.

Pursuant to section 773(a)(1)(B)(I) of the Act, in identifying levels of trade for CEP and comparison market sales (i.e., NV based on either home market or third country prices), we consider the starting prices before any adjustments. Consistent with Micron Technology, 243 F.3d at 1315, the Department will adjust the U.S. LOT, pursuant to section 772(d) of the Act, prior to performing the LOT analysis, as articulated by 19 CFR 351.412.

When the Department is unable to match U.S. sales to sales of the foreign like product in the comparison market at the same LOT as the CEP sales, the Department may compare the U.S. sale to sales at a different LOT in the comparison market. In comparing CEP sales to sales at a different LOT in the comparison market, where available data make it practicable, we make an LOT adjustment under section 773(a)(7)(A) of the Act.

In determining whether separate LOTs exist, we obtained information from SeAH regarding the marketing stages for the reported U.S. and comparison market sales, including a description of the selling activities performed for each channel of distribution. Generally, if the reported LOTs are the same, the functions and activities of the seller at each level should be similar. Conversely, if a party reports that LOTs are different for different groups of sales, the selling functions and activities of the seller for each group should be dissimilar.

In the current review, SeAH reported one channel of distribution in the Canadian comparison market. All sales to the Canadian market were made between PPA and the unaffiliated customer and shipped directly to the customer from Korea. The selling functions performed by SeAH and PPA for the Canadian market were identical for each customer. As such, we preliminarily find that all of SeAH's sales in the Canadian market were made at one LOT.

SeAH reported one channel of distribution for its sales to the United States. We examined the selling functions performed by SeAH and PPA for the U.S. sales and found that all sales of the subject merchandise were inventoried and most were further manufactured by PPA in the United States before being sold to the unaffiliated customer. The selling functions performed by SeAH and PPA in the U.S. market were identical for each customer. Therefore, we preliminarily find that SeAH made its U.S. sales at one LOT. SeAH claimed that once adjustments for PPA's activities for U.S. sales are made, pursuant to section 772(d) of the Act, the LOT in the U.S. market is less advanced than the Canadian LOT.

To determine whether NV is at a different LOT than the U.S. transactions, the Department compared SeAH's selling activities for the Canadian market with those for the U.S. market. We grouped SeAH's selling activities for the Canadian market and U.S. market into the following categories: selling and marketing, technical service, freight, and inventory. See SeAH's Section A questionnaire response at Exhibit A-15. In accordance with Micron Technology, we removed the selling activities set forth in section 772(d) of the Act from the U.S. LOT prior to performing the LOT analysis. See SeAH's Preliminary Analysis Memo. After removing the appropriate selling activities, we compared the U.S. LOT to the Canadian LOT. Based on our analysis, we find that the U.S. sales are at a less advanced LOT than the Canadian sales. See SeAH's Preliminary Analysis Memo.

Therefore, because the sales in Canada are being made at a more advanced LOT than the sales to the United States, an LOT adjustment is appropriate for the Canadian sales in this review. However, as SeAH sold only through one channel of distribution to Canada, there is not sufficient data to evaluate whether an LOT adjustment is warranted. Therefore, we made a CEP offset adjustment in accordance with section 773(a)(7)(B) of the Act and 19 CFR 351.412(f). This offset is equal to the amount of indirect selling expenses and inventory carrying costs incurred in the comparison market up to but not exceeding the sum of indirect selling expenses and inventory carrying costs from the U.S. price in accordance with section 772(d)(1)(D) of the Act.

Currency Conversions

We made currency conversions in accordance with section 773A of the Act based on the exchange rates in effect on the dates of the U.S. sales as certified by the Federal Reserve Bank of New York.

Preliminary Results Of Review

As a result of this review, we preliminarily find that the following weighted average dumping margins exist:

Manufacturer/Exporter | Margin
SeAH Steel Corporation | 0.58%%
HuSteel Co., Ltd | 0.85%%

Cash Deposit Requirements

If these preliminary results are adopted in the final results of this review, the following cash deposit requirements will be effective upon completion of the final results of this administrative review for all shipments of subject merchandise entered, or withdrawn from warehouse, for consumption on or after the publication of the final results of this administrative review, as provided by section 751(a)(1) of the Act: 1) the cash deposit rate for the reviewed company will be the rate established in the final results of this review, except if the rate is less than 0.50 percent (de minimis within the meaning of 19 CFR 351.106(c)(1)), the cash deposit will be zero; 2) for previously reviewed companies not listed above, the cash deposit rate will continue to be the company-specific rate published for the most recent period; 3) if the exporter is not a firm covered in this review, a prior review, or the original less than fair value (“LTFV”) investigation, but the manufacturer is, the cash deposit rate will be the rate established for the most recent period for the manufacturer of the merchandise; and 4) the cash deposit rate for all other manufacturers or exporters will continue to be the “all others” rate established in the LFTV investigation, which is of 12.17 percent. See Final Determination of Sales at Less Than Fair Value: Oil Country Tubular Goods from Korea, 60 FR 33561 (June 28, 1995). These cash deposit requirements, when imposed, shall remain in effect until publication of the final results of the next administrative review. See section 751(a)(2)(C) of the Act.

Duty Assessment

Upon publication of the final results of this review, the Department shall determine and CBP shall assess antidumping duties on all appropriate entries. Pursuant to 19 CFR 351.212(b)(1), the Department calculates an assessment rate for each importer of the subject merchandise for each respondent. HuSteel and SeAH each made all their sales to the United States through an affiliated importer. HuSteel and SeAH have reported entered values for all of their respective sales of subject merchandise to the United States during the POR. We have compared the entered values reported by HuSteel and SeAH with the entered values that they reported to CBP on their customs entries and preliminarily find that HuSteel's and SeAH's reported entered values are reliable. See HuSteel's Preliminary Analysis Memo and SeAH's Preliminary Analysis Memo. Therefore, in accordance with 19 CFR 351.212(b)(1), we will calculate importer-specific duty assessment rates on the basis of the ratio of the total amount of antidumping duties calculated for the examined sales and the total entered value of the examined sales. These rates will be assessed uniformly on all entries the respective importers made during the POR if these preliminary results are adopted in the final results of review. The Department will issue appropriate assessment instructions directly to CBP within 15 days of the final results of this review.

The Department clarified its “automatic assessment” regulation on May 6, 2003. See Notice of Policy Concerning Assessment of Antidumping Duties, 68 FR 23954 (May 6, 2003) (Assessment-Policy Notice). This clarification will apply to entries of subject merchandise during the period of review produced by companies included in these final results of reviews for which the reviewed companies did not know that the merchandise it sold to the intermediary (e.g., a reseller, trading company, or exporter) was destined for the United States. In such instances, we will instruct CBP to liquidate unreviewed entries at the all-others rate if there is no rate for the intermediary involved in the transaction. See the Assessment-Policy Notice for a full discussion of this clarification.

Public Comment

Pursuant to 19 CFR 351.224(b), the Department will disclose to any party to the proceeding the calculations performed in connection with these preliminary results within five days after the date of publication of this notice. Pursuant to 19 CFR 351.309, interested parties may submit written comments in response to these preliminary results. Unless extended by the Department, case briefs are to be submitted within 30 days after the date of publication of this notice. Rebuttal briefs, limited to arguments raised in case briefs, may be submitted no later than five days after the time limit for filing case briefs. Parties who submit arguments in this proceeding are requested to submit with the argument: (1) A statement of the issues; (2) a brief summary of the argument; and (3) a table of authorities. Case and rebuttal briefs must be served on interested parties in accordance with 19 CFR 351.303(f).

Also, pursuant to 19 CFR 351.310(c), within 30 days of the date of publication of this notice, interested parties may request a public hearing on arguments to be raised in the case and rebuttal briefs. Unless the Secretary specifies otherwise, the hearing, if requested, will be held two days after the date for submission of rebuttal briefs. Parties will be notified of the time and location. The Department will publish the final results of this administrative review, including the results of its analysis of issues raised in any case brief, rebuttal brief, or hearing no later than 120 days after publication of these preliminary results, unless extended. See 19 CFR 351.213(h).

Notification to Importers

This notice serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

These preliminary results of this administrative review and notice are issued and published in accordance with sections 751(a)(1) and 777(I)(1) of the Act.

Dated: August 24, 2006.
Stephen J. Claeys,
Acting Assistant Secretary for Import Administration.

[FR Doc. 06-7348 Filed 8-30-06; 8:45 am]

BILLING CODE 3510-DS-S